ENVIRONMENTAL PROTECTION AGENCY

[FRL OP-OFA-153]

Environmental Impact Statements; Notice of Availability

Responsible Agency: Office of Federal Activities, General Information 202-564-5632 or https://www.epa.gov/nepa.

Weekly receipt of Environmental Impact Statements (EIS) Filed November 8, 2024 10 a.m. EST Through November 18, 2024 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240216, Final, USGS, WI, Proposed Development of an Updated Facility for USGS National Wildlife Health Center Madison, Wisconsin, Review Period Ends: 12/23/2024,

Contact: Jordan Sizemore 360-929-0783.

EIS No. 20240217, Final, NRC, MN, Site-Specific Environmental Impact Statement for License Renewal of Nuclear Plants Supplement 26, Second Renewal Regarding Subsequent License Renewal for Monticello Nuclear Generating Plant, Unit 1 Final Report, Review Period Ends: 12/23/2024,

Contact: Jessica Umana 301-415-5207.

EIS No. 20240218, Draft, NMFS, PRO, Identification of Aquaculture Opportunity Areas in U.S. Federal Waters of the Gulf of Mexico, Comment Period Ends: 02/20/2025,

Contact: Andrew Richard 727-551-5709.

EIS No. 20240219, Draft, NMFS, CA, Identification of Aquaculture Opportunity Areas in U.S. Federal Waters off of Southern California, Comment Period Ends: 02/20/2025,

Contact: Celia Barroso 562-432-1850.

EIS No. 20240220, Final, BIA, OR, Coquille Indian Tribe Fee to Trust Gaming Facility Project, Review Period Ends: 12/23/2024,

Contact: Brian Haug 503-347-0631.

EIS No. 20240221, Final, BIA, CA, Koi Nation Shiloh Resort and Casino, Review Period Ends: 12/23/2024,

Contact: Chad Broussard 916-978-6165.

Dated: November 18, 2024.
Nancy Abrams,
Associate Director, Office of Federal Activities.

[FR Doc. 2024-27419 Filed 11-21-24; 8:45 am]

BILLING CODE 6560-50-P